NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the Georgia Institute of Technology by NSF Division of Materials Research (DMR) #1203.

Dates & Times: March 2, 2010, 7:30 a.m.-4:45 p.m.

Place: Georgia Tech University, Atlanta, GA.

Type of Meeting: Part-open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning progress of the MRSEC at Georgia Tech.

Agenda

Tuesday March 2, 2010

7:30 a.m.-9:15 a.m. Closed—Executive Session.

9:15 a.m.-3:45 a.m. Open—Review of Georgia Tech MRSEC.

3:45 a.m.-4:45 a.m. Closed—Executive Session.

Reason for Closing: The work being reviewed may include information of a proprietary or confidential nature, including technical information; financial data, such as salaries and personal information concerning individuals associated with the proposals. These matters are exempt under 5 U.S.C. 552 b(c), (4) and (6) of the Government in the Sunshine Act.

Dated: January 26, 2010.
Susanne Bolton,
Committee Management Officer.

[FR Doc. 2010-1805 Filed 1-28-10; 8:45 am]

BILLING CODE 7555-01-P